DEPARTMENT OF ENERGY

Federal Energy Regulatory Commission

[Docket No. CP00-114-000]

Trunkline Gas Company; Notice of Intent To Prepare an Environment Assessment for the Proposed Line 100-1 Abandonment Project and Request for Comments on Environmental Issues

June 8, 2000.

The staff of the Federal Energy Regulatory Commission (FERC or Commission) will prepare an environmental assessment (EA) that will discuss the environmental impacts of Trunkline Gas Company's (Trunkline) proposal to abandon 720 miles of 26-inch-diameter pipeline (Line 100-1) by transfer to its affiliate CMS Trunkline Pipeline Holdings, Inc. (TPH). The EA will be used by the Commission in its decision-making process to determine whether the project is in the public convenience and necessity.

TPH has entered into an agreement with Centennial Pipeline [a joint venture between Texas Eastern Products Pipeline Company, L.P. (TEPPCO) and Marathon Ashland Petroleum, L.L.C. (Marathon)] to convert and jointly operate the pipeline to transport refined petroleum products from Texas-Louisiana Gulf Coast area to the Midwest. Line 100-1 extends from Douglas County, Illinois through Kentucky, Tennessee, Arkansas, and Mississippi, and terminates in Beauregard Parish, Louisiana.

If you are a landowner on Trunkline's route and receive this notice, you may be contacted by a pipeline company representative about the work that may be necessary on your property to disconnect the 26-inch-diameter pipeline from the remainder of Trunkline's system. Trunkline states that the existing easements permit this transfer of ownership and change in use.

This notice is being sent to landowners of property crossed by Trunkline's Line 100-1; landowners likely to be affected by Centennial Pipeline's planned facilities; Federal, state, and local agencies; elected officials; environmental and public interest groups; Indian tribes that might attach religious and cultural significance to historic properties in the area of potential effects; and local libraries and newspapers. State and local government representatives are encouraged to notify their constituents of this proposed action and encourage them to comment on their areas of concern.

Additionally, with this notice we are asking those Federal, state, local and tribal agencies with jurisdiction and/or special expertise with respect to environmental issues to cooperate with us in the preparation of the EA. These agencies may choose to participate once they have evaluated the proposal relative to their agencies' responsibilities. Agencies who would like to request cooperating agency status should follow the instructions for filing comments described below.

Summary of the Proposed Project

Minor ground disturbing activities would be necessary at 113 sites along Trunkline's Line 100-1 to disconnect it from the other two pipelines on this portion of its system. The majority of the work would be conducted at existing compressor station and meter station sites or within Trunkline's existing right-of-away. A total of approximately 99 acres would be disturbed by these activities.

Once the pipeline has been disconnected from Trunkline's system, Centennial Pipeline plans to build:

• A new crossing of the Ouachita River in Caldwell Parish, Louisiana to replace the existing Line 100-1.

• Three new pumping stations at currently unidentified locations adjacent to the converted line;

• A 17-tank, 2-million-barrel petroleum storage facility near Creal Springs, Illinois; an interconnection between the Centennial Pipeline and Marathon's facilities near Effingham, Illinois; and

• About 75 miles of new 24-inch-diameter pipeline between TEPPCO's existing products terminal near Beaumont, Texas and the terminus of Line 100-1 in Longville, Louisiana.

The general location of Trunkline's existing facilities and the location of the planned Centennial Pipeline facilities are shown on the maps attached as appendices 1 and 2, respectively.¹

¹ The appendices referenced in this notice are not being printed in the Federal Register. Copies are available on the Commission's website at the “RIMS” link or from the Commission's Public Reference and Files Maintenance Branch, 888 First Street, NE, Room 2A, Washington, DC 20426, or call (202) 208-1371. For instructions on connecting to RIMS refer to the last page of this notice. Copies of the appendices were sent to all those receiving this notice in the mail.

The EA Process

The National Environmental Policy Act (NEPA) requires the Commission to take into account the environmental impacts that could result from an action whenever it considers the issuance of a Certificate of Public Convenience and Necessity. NEPA also requires us ² to solicit and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

² “Us”, “we”, and “our” refer to the environmental staff of the FERC's Office of Energy Projects.

Our independent analysis of the issues will be in the EA. Depending on the comments received during scoping process, the EA may be published and mailed to Federal, state, and local agencies, public interest groups, interested individuals, affected landowners, newspapers, libraries, and the Commission's official service list for this proceeding. A comment period will be allotted for review if the EA is published. We will consider all comments on the EA before we make our recommendations to the Commission.

Currently Identified Environmental Issues

The EA will discuss impacts that could occur as a result of the construction and operation of the proposed project. We have already identified a number of issues that we think deserve attention based on a preliminary review of the proposed activities and the environmental information provided by Trunkline. These issues are listed below. This is a preliminary list of issues and may be changed based on your comments and our analysis.

• Impact on wetland hydrology.

• Potential impact on Federal- and State-listed threatened or endangered species and U.S. Forest Service-listed sensitive species.

• Impact on public lands and special use areas including the Kisatchie National Forest in Louisiana and the Shawnee National Forest in Illinois.

We have made a preliminary decision to not provide a detailed analysis of the environmental impacts of the facilities to be built by Centennial Pipeline. However, the EA will describe their location, status, any known environmental impacts, and a list of the responsible agencies. We are specifically seeking comment on this decision.

Public Participation

You can make a difference by sending a letter addressing your specific comments or concerns about the project. By becoming a commentor, your concerns will be addressed in the EA and considered by the Commission. You should focus on the potential environmental effects of the proposal, alternatives to the proposal, alternatives to the proposal (including alternative routes), and measures to avoid or lessen environmental impact. The more specific your comments, the more useful they will be. Please carefully follow these instructions to ensure that your comments are received in time and properly recorded:

• Send two copies of your letter to: David P. Boergers, Secretary, Federal Energy Regulatory Commission, 888 First Street, NE, Room 1A, Washington, DC 20426.

• Label one copy of the comments for the attention of the Gas 1, PJ-11.1;

• Reference Docket No. CP00-114-000;

• Mail your comments so that they will be received in Washington, DC on or before July 12, 2000.

All commenters will be retained on our mailing list. If you do not want to send comments at this time but still want to stay on the mailing list, you must return the attached Information Request (appendix 4). If you do not send comments or return the Information Request, you will be taken off the mailing list.

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a cop of its filings to all other parties on the Commission's service list for this proceeding. If you want to become a intervenor you must file a motion to intervene according to Rule 214 of the Commission's Rules of Practice and Procedure (18 CFR 385.214) (see appendix 3). Only intervenors have the right to seek rehearing of the Commission's decision.

Affected landowners and parties with environmental concerns may be granted intervenor status upon showing good cause by stating that they have a clear and direct interest in the proceeding which would not be adequately represented by any other parties. You do not need intervenor status to have your environmental comments considered.

Additional information about the proposed project is available from Mr. Paul McKee of the Commission's Office of External Affairs at (202) 208-1088 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS Menu, and follow the instructions. For assistance with access to CIPS, the CIPS helpline can be reached at (202) 208-2474.

David P. Boergers,
Secretary.

[FR Doc. 00-14923 Filed 6-13-00; 8:45 am]

BILLING CODE 6717-01-M